DEPARTMENT OF LABOR

Employment and Training Administration

Comment Request for Information Collection Request for OMB 1205-0154, Unemployment Insurance (UI) Trust Fund Activities Reports, Extension Without Revisions

AGENCY: Employment and Training Administration (ETA), Labor.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, ETA is soliciting comments concerning the continuation of the collection of data on UI Trust Fund Activities Reports. The current expiration date for this collection is December 31, 2015.

DATES: Submit written comments to the office listed in the addresses section below on or before July 13, 2015.

ADDRESSES: Send written comments to Joe Williams, Office of Unemployment Insurance, Room S-4524, Employment and Training Administration, U.S. Department of Labor, 200 Constitution Avenue NW., Washington, DC 20210. Telephone number: (202) 693-2928 (this is not a toll-free number). Individuals with hearing or speech impairments may access the telephone number above via TTY by calling toll-free Federal Information Relay Service at 1-877-889-5627 (TTY/TDD). Email: williams.joseph@dol.gov. To obtain a copy of the proposal information collection request (ICR), please contact the person listed above.

SUPPLEMENTARY INFORMATION:

I. Background

Section 303(a)(4) of the Social Security Act (SSA) and Section 3304(a)(3) of the Federal Unemployment Tax Act (FUTA) require that all monies received in the unemployment fund of a state be paid immediately to the Secretary of Treasury to the credit of the Unemployment Trust Fund (UTF). This is the “immediate deposit” standard.

Section 303(a)(5) of the SSA and Section 3304(a)(4) of the FUTA require that all monies withdrawn from the UTF be used solely for the payment of unemployment compensation, exclusive of the expenses of administration. This is the “limited withdrawal” standard.

Federal law (Section 303(a)(6) of the SSA) gives the Secretary of Labor the authority to require the reporting of information deemed necessary to assure state compliance with the provisions of the SSA.

Under this authority, the Secretary of Labor requires the following reports to monitor state compliance with the immediate deposit and limited withdrawal standards:

ETA 2112: UI Financial Transactions Summary, Unemployment Fund

ETA 8401: Monthly Analysis of Benefit Payment Account

ETA 8405: Monthly Analysis of Clearing Account

ETA 8413: Income—Expense Analysis Unemployment Compensation (UC) Fund, Benefit Payment Account

ETA 8414: Income—Expense Analysis UC Fund, Clearing Account

ETA 8403: Summary of Financial Transactions—Title IX Funds

These reports are submitted to the Office of Unemployment Insurance (OUI) within the ETA which uses them to:

• Monitor cash flows into and out of the UTF to determine state compliance with the immediate deposit and limited withdrawal standards.

• Assure proper accounting for unemployment funds, an integral part of preparing the Department's consolidated financial statements required by the Chief Financial Officer Act of 1990. The UTF is the single largest asset and liability on the statements.

• Reconcile the Department's records with the U.S. Treasury records.

• Support UI research and actuarial reports analyzing the solvency of the UTF.

The Department seeks renewal of this collection since the reports are essential to the Department's financial statements and program oversight responsibilities.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including the use of the appropriate automated, electronic, mechanical, technological or other forms of information collection techniques.

III. Current Actions

The continued collection of these financial data are necessary for the purposes of monitoring and evaluating state financial transactions for proper oversight and administration of the UI system.

Type of Review: Extension without change.

Title: Unemployment Insurance Trust Fund Activities Reports, ETA 2112, 8401, 8405, 8413, 8414, 8403.

OMB Number: 1205-0154.

Affected Public: State Workforce Agencies.

Estimated Total Annual Respondents: 53.

Annual Frequency: Monthly.

Estimated Total Annual Responses: 636.

Average Time per Response: The ETA 2112, 8401, 8405, 8413, and 8414 are all submitted on a monthly basis. We estimate the state burden to be: 636 total responses × 2.5 hours for all 5 reports (.5 hours for each report) = 1,590 hours. The ETA 8403 is submitted only when there is activity requiring update of the state's Reed Act account. We estimate the state burden to be: 53 states × 6 annual responses × 30 minutes per response = 159 reporting hours.

Estimated Total Burden Hours: 1,749 hours.

Total Estimated Annual Other Cost Burden: $0.

We summarize and/or included in the request for OMB approval of the ICR, the comments received in response to this comment request; they will also become a matter of public record.

Portia Wu,
Assistant Secretary for Employment and Training, Labor.

[FR Doc. 2015-11648 Filed 5-13-15; 8:45 am]

BILLING CODE 4510-FW-P